DEPARTMENT OF TRANSPORTATION

Federal Railroad Administration

[Docket No. FRA-2010-005-N-5]

Railroad Safety Technology Program Grant Program

AGENCY: Federal Railroad Administration (FRA), Department of Transportation (DOT).

ACTION: Notice of Funds Availability, Solicitation of Applications.

SUMMARY: The Rail Safety Technology Program is a newly authorized program under the Rail Safety Improvement Act of 2008 (RSIA) (Pub. L. 110-432; October 16, 2008). The program authorizes the Department of Transportation to provide grants to passenger and freight rail carriers, railroad suppliers, and State and local governments for projects that have a public benefit of improved railroad safety and efficiency. The program makes available $50,000,000 in Federal funds. This grant program has a maximum 80 percent Federal and minimum 20 percent grantee cost share (cash or in-kind) match requirement.

DATES: FRA will begin accepting grant applications 10 days after publication of this Notice of Funding Availability in the Federal Register. Applications may be submitted until July 1, 2010. Reviews will be conducted immediately following the solicitation close date. Selection announcements will be made on or around September 3, 2010.

ADDRESSES: Applications for grants under this Program must be submitted electronically to Grants.gov (http://www.grants.gov) following the detailed procedures in the grant application package online. The Grants.gov Web site allows organizations to find and apply electronically for competitive grant opportunities from all Federal grant-making agencies. Any entity wishing to submit an application pursuant to this notice should immediately initiate the process of registering with Grants.Gov.

FOR FURTHER INFORMATION CONTACT: Those interested in responding to this solicitation are strongly encouraged to first call Dr. Mark Hartong, FRA, Senior Electronics Engineer (Phone: (202) 493-1332; e-mail: Mark.Hartong@dot.gov), or Mr. David Blackmore, FRA, Program Manager-Advanced Technologies (Phone: (312) 835-3903, e-mail: David.Blackmore@dot.gov), to discuss the prospective idea, its potential responsiveness to the solicitation, and potential for FRA interest. Taking this action could forestall costly efforts by interested parties whose proposed work may not be of interest to FRA under this grant. Non-technical inquiries should be directed to the Grants Officer, Ms. Jennifer Capps (Phone: (202) 493-0112, e-mail: Jennifer.Capps@dot.gov).

SUPPLEMENTARY INFORMATION:

Authority and Funding: The Railroad Safety Technology Program (RSTP) authorized under section 105 of the RSIA (Division A, Pub. L. 110-432) (49 U.S.C. 20158), authorizes the appropriation of $50 million annually for fiscal years (FY) 2009 through 2013. The Transportation, Housing and Urban Development, and Related Agencies Appropriations Act of 2010 provided $50 million for this purpose.

Eligible Organizations: Title 49 U.S.C. 20158 provides that “Grants shall be made under this section to eligible passenger and freight railroad carriers, railroad suppliers, and State and local governments for projects * * * that have a public benefit of improved safety and network efficiency.”

To be eligible for assistance, entities must have either received approval of the Technology Implementation Plans (TIP) and Positive Train Control Implementation Plans (PTCIP) required by 49 U.S.C. 20156(e)(2) and 20157, or demonstrate to the satisfaction of FRA that they are currently developing the required plans. Preference will be given in the following order:

1. Entities that have completed and received FRA approval of both their TIP and PTCIP.

2. Entities that have completed and received FRA approval of their PTCIP.

3. Entities that have submitted their PTCIP to FRA for approval.

4. Entities that have certified to FRA progress towards completion of their PTCIP and TIP.

5. All other entities.

Collaborative project submissions by freight and passenger carriers, suppliers, and State and local governments on eligible projects will be evaluated more favorably.

Eligible Projects: Grant awards will focus on using technologies or methods that are ready for deployment, or of sufficient technical maturity that they can be made ready for deployment within the 24 months of the grant award. FRA will give preference to collaborative projects by multiple railroads that have active railroad carrier and sponsoring public authority participation in the following order:

Priority 1: Projects that:

(a) Support the resolution of Northeast Corridor Positive Train Control (PTC) interoperability issues,

(b) Support the resolution of mixed freight and passenger PTC interoperability issues in the Los Angeles Basin, or

(c) Facilitate sharing of PTC communications infrastructure and spectrum.

Priority 2: Projects that:

(a) Support high-speed passenger operations using general freight PTC technologies,

(b) Optimize PTC deployment on the core 2015 PTC territory, or

(c) Support PTC deployment on non-2015 core PTC territory.

Priority 3: All other projects.

Selection Criteria: Applications will be evaluated and ranked based on both technical and cost/price factors.

Technical Factors (75% overall weighting):

1. Responsiveness to Solicitation Intent and Requirements (20%): Degree to which proposal meets the conceptual intent and submission requirements of the solicitation.

2. Significance for Implementing Interoperable PTC Deployment and Fit with FRA Mission (30%): Degree to which successful implementation of proposed idea would make interoperable PTC deployment more technically or economically practical (includes contribution to cost effectiveness, reliability, safety, availability, or maintainability), and fit within FRA's primary mission of ensuring the safety of the Nation's approximately 700 railroads.

3. Technical Merit (20%): Degree to which proposed ideas exhibit a sound scientific and engineering basis; how well the proposed ideas could be practically applied in, and would be compatible with, the railroad environment; and perceived likelihood of technical and practical success.

4. Key Personnel and Supporting Organization (15%): The technical qualifications and demonstrated experience of key personnel proposed to lead and perform the technical efforts; qualifications of primary and supporting organizations to fully and successfully execute proposal plan within proposed timeframe and budget.

5. Collaborative Efforts (15%): The degree to which proposed effort is supported by multiple entities and the applicability and availability of results to the larger railroad industry.

Cost/Price Factor (25% overall weighting):

1. Affordability and degree to which proposed effort appears to be a good value for the amount of funding requested. This includes the reasonableness and realism of the proposed costs (60%).

2. The extent of proposed cost sharing or cost participation under the proposed effort (exclusive of the applicant's prior investment) (40%).

All evaluation factors other than cost or price, when combined, are significantly more important than cost or price alone. Technical evaluation is appreciably more important than cost or price and, as such, greater consideration shall be given to technical excellence rather than cost or price alone. An offer must be found acceptable under all applicable evaluation factors to be considered eligible for award. Awards will be made to responsible applicants whose offers provide the best value to the Government in terms of technical excellence, cost or price, and performance risk to include consistency and accord with the objectives of the solicitation and FRA's expressed areas of interest.

Requirements and Conditions for Grant Applications: Detailed application requirements and conditions may be found in the grant application guidance (RSS-RSTG-FY2010-1) for this solicitation on Grants.gov.

Information Collection: The Office of Management and Budget (OMB), under emergency clearance procedures, has approved the information collection associated with the Rail Safety Technology Program for 6 months. The approval number for this collection of information is OMB No. 2130-0587, and the expiration date is September 30, 2010. FRA will be publishing a Notice in the Federal Register shortly in which the agency will be seeking regular OMB Clearance for this collection of information. Such approvals are normally good for 3 years. FRA will publish a Notice for this second OMB approval once it is obtained.

Issued in Washington, DC, on March 23, 2010.
Brenda Moscoso,
Acting Associate Administrator for Railroad Safety/Chief Safety Officer.

[FR Doc. 2010-6889 Filed 3-26-10; 8:45 am]

BILLING CODE 4910-06-P